DEPARTMENT OF HEALTH AND HUMAN SERVICES

Health Resources and Services Administration

Part C Early Intervention Services Grant

AGENCY: Health Resources and Services Administration (HRSA), HHS.

ACTION: Notice of Noncompetitive Award to Wyoming Department of Health.

SUMMARY: HRSA will be awarding noncompetitively Part C Ryan White HIV/AIDS program funds to support comprehensive primary care services for persons living with HIV/AIDS including primary medical care, laboratory testing, oral health care, outpatient mental health and substance abuse treatment, specialty and subspecialty care, referrals for health and support services, and adherence monitoring/education services to the Wyoming Department of Health in order to ensure continuity of critical HIV medical care and treatment services, and to avoid a disruption of HIV clinical care to clients in the State of Wyoming.

SUPPLEMENTARY INFORMATION: Grantee of record: Equality State Infection Foundation. Intended recipient of the award: Wyoming Department of Health.

Amount of the award: Wyoming Department of Health will receive $182,812 fiscal year 2009 funds to cover 9 months of support to ensure ongoing clinical services to the target population and provide seamless services to the State of Wyoming.

Authority: Section 2651 of the Public Health Service Act, 42 U.S.C. 300ff-51.

CFDA Number: 93.918.

Project period: July 1, 2009, to March 31, 2010. The period of support for the replacement award is from July 1, 2009, to March 31, 2010.

Justification for the Exception to Competition:

Critical funding for HIV medical care and treatment services to clients in the State of Wyoming will be continued through a noncompetitive award to the Wyoming Department of Health, as it has the fiscal and administrative infrastructure to administer the Part C Grant. This is a temporary replacement award, as the previous grant recipient serving this population notified HRSA that it could not continue providing services after March 31, 2009. HRSA identified the Wyoming Department of Health as the best qualified entity for this temporary grant, as it is the current Ryan White Part B Grantee of record that serves as the State/regional HIV care consortia for funding services such as primary care, case management, support services and the AIDS Drug Assistance Program. The Wyoming Department of Health can ensure comprehensive services are provided including primary medical care, antiretroviral therapies, medical case management, prevention education and medication adherence teaching, referrals for mental health, substance abuse and dental services; on-site social services with linkages to community HIV case management services; and referrals to HIV counseling and testing sites. The Wyoming Department of Health is willing and able to provide critical services with the least amount of disruption to the service population while the service area is re-competed.

This award will cover the time period from July 1, 2009, through March 31, 2010. This service area will be included in the upcoming competition for the Part C HIV Early Intervention Services competing application process for project periods starting April 1, 2010.

FOR FURTHER INFORMATION CONTACT: Dora Ober, Chief, Western Branch, Division of Community Based Programs, HIV/AIDS Bureau, HRSA, 5600 Fishers Lane, Rockville, Maryland 20857; via e-mail dober@hrsa.gov, or via telephone, 301-443-0759.

Dated: July 23, 2009.
Mary K. Wakefield,
Administrator.

[FR Doc. E9-18123 Filed 7-29-09; 8:45 am]

BILLING CODE 4165-15-P